DEPARTMENT OF HOUSING AND URBAN DEVELOPMENT

[Docket No. FR-4975-N-28]

Notice of Proposed Information Collection: Comment Request; Loan Servicing of All Three Coinsurance Programs; Section 221(d), Section 223(f), and Section 232

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: October 25, 2005.

ADDRESSES: Interested persons are invited to submit comments regarding this proposal. Comments should refer to the proposal by name and/or OMB Control Number and should be sent to: Wayne Eddins, Reports Management Officer, Department of Housing and Urban Development, 451 7th Street, SW., L'Enfant Building, Room 8202, Washington, DC 20410, telephone (202) 708-5221 (this is not a toll-free number) for copies of the proposed forms and other available information.

FOR FURTHER INFORMATION CONTACT: Kimberly R. Munson, Policy and Participation Standards Division, Department of Housing and Urban Development, 451 7th Street, SW., Washington, DC 20410, telephone number (202) 708-1320 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Loan Servicing of All Three Coinsurance Programs: Section 221(d), Section 223(f), and Section 232.

OMB Control Number, if applicable: 2502-0314.

Description of the need for the information and proposed use: Information is needed to review and evaluate the financial, physical, and managerial adequacy of multifamily housing, retirement service centers, and nursing homes with multimillion dollar coinsured loans to minimize risks and to protect these assets and the Government's interest.

Agency form numbers, if applicable: Form HUD-9815.

Estimation of the total numbers of hours needed to prepare the information collection including number of respondents, frequency of response, and hours of response: The total annual burden hours is 2,257. The number of respondents is 11, and the average frequency of responses is 3, for a total of 33 annual responses. The estimated time to prepare, submit, and maintain the information is approximately 68.38 hours for each response.

Status of the proposed information collection: Extension of a currently approved collection.

Authority: The Paperwork Reduction Act of 1995, 44 U.S.C., Chapter 35, as amended.

Dated: August 18, 2005.
Frank L. Davis,
General Deputy Assistant Secretary for Housing—Deputy Federal Housing Commissioner.

[FR Doc. E5-4656 Filed 8-25-05; 8:45 am]

BILLING CODE 4210-27-P